DEPARTMENT OF TRANSPORTATION

Maritime Administration

[DOCKET NO. MARAD 2003 16301]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before December 15, 2003.

FOR FURTHER INFORMATION CONTACT: Celia Luck, Maritime Administration, MAR-810, 400 Seventh St., SW., Washington, DC 20590. Telephone: (202) 366-3581, FAX: (202) 366-6988; or E-MAIL: celia.luck@marad.dot.gov. Copies of this collection also can be obtained from that office.

SUPPLEMENTARY INFORMATION: Title of Collection: Intermodal Access to U.S. Ports, and Intermodal Access to U.S. Marine Terminals Surveys.

Type of Request: Extension of currently approved information collection.

OMB Control Number: 2133-0533.

Form Numbers: MA-1024 and MA-1024A.

Expiration Date of Approval: Three years from date of approval by the Office of Management and Budget.

Summary of Collection of Information: The Intermodal Access to U.S. Ports, and Intermodal Access to U.S. Marine Terminals Surveys will provide MARAD with key road, rail, and waterside access data and highlight the issues that affect the flow of cargo through U.S. ports and terminals.

Need and Use of the Information: These annual surveys will provide an overall indicator for cargo flow, and capacity trends and requirements. The survey instruments will allow MARAD to assess the magnitude and nature of impediments to efficient intermodal connections to ports and marine terminals and will provide information on correcting any deficiencies.

Description of Respondents: U.S. Ports and Terminals (including the top U.S. deepwater ports, the top container ports and the strategic ports).

Annual Responses: 162.

Annual Burden: 81 hours.

Comments: Comments should refer to the docket number that appears at the top of this document. Written comments may be submitted to the Docket Clerk, U.S. DOT Dockets, Room PL-401, 400 Seventh Street, SW., Washington, DC 20590. Comments may also be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator,
Dated: October 9, 2003.
Joel C. Richard,
Secretary, Maritime Administration.

[FR Doc. 03-26054 Filed 10-14-03; 8:45 am]

BILLING CODE 4910-81-P